NEIGHBORHOOD REINVESTMENT CORPORATION

Sunshine Act Meetings

TIME AND DATE: 2:00 p.m., Thursday, September 11, 2025.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Action Item: Resolution to Elect Chairman Hauptman as Temporary Board Chair

III. Sunshine Act Approval of Executive (Closed) Session

IV. Executive Session: CEO Report

V. Executive Session: CFO Report

VI. Executive Session: General Counsel Report

VII. Executive Session: CIO Report

VIII. Action Item: Approval of Meeting Minutes for June 26 Annual Board Meeting

IX. Action Item: Capital Corporations—Master Investment Agreement

X. Action Item: FY2026 Preliminary Spend Plan

XI. Action Item: Capital One Grant

XII. Discussion Item: FY2025-FY2027 Strategic Plan Update

XIII. Discussion Item: Management Program Background and Updates

a. 2025 Board Calendar

b. 2025 Board Agenda Planner

c. CFO Report

i. Financials (through 5/31/25)

ii. Single Invoice Approvals $100K and over

iii. Vendor Payments $350K and over

iv. Exceptions

d. Programs Dashboard

e. Housing Stability Counseling Program (HSCP)

f. Strategic Plan Scorecard—FY25 Q3

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2025-17132 Filed 9-4-25; 4:15 pm]

BILLING CODE 7570-01-P